DEPARTMENT OF AGRICULTURE

Meeting Notice of the National Agricultural Research, Extension, Education, and Economics Advisory Board

AGENCY: Research, Education, and Economics, Office of the Secretary, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet September 12-13, 2013. The public may file written comments before or up to two weeks after the meeting with the contact person.

ADDRESSES: The meeting will take place at The Beacon Hotel, 1615 Rhode Island Avenue NW., Washington, DC 20036. Written comments from the public may be sent to the Contact Person identified in this notice at: The National Agricultural Research, Extension, Education, and Economics Advisory Board Office, Room 3901 South Building, United States Department of Agriculture, STOP 0321, 1400 Independence Avenue SW., Washington, DC 20250-0321.

FOR FURTHER INFORMATION CONTACT: Shirley Morgan-Jordan, Program Support Coordinator, National Agricultural Research, Extension, Education, and Economics Advisory Board; telephone: (202) 720-3684; fax: (202)720-6199; or email: Shirley.Morgan@ars.usda.gov.

SUPPLEMENTARY INFORMATION: The Honorable Secretary of Agriculture Tom Vilsack, and the Under Secretary of Research, Education, and Economics Dr. Catherine Woteki have been invited to provide brief remarks and welcome the new Board members during the meeting.

On Thursday, September 12, 2013 the full Advisory Board will convene at 8:00 a.m. and end by 5:00 p.m. followed by an evening session beginning at 6:00 p.m. Specific items on the agenda will include a discussion related to the report of the President's Council of Advisors on Science and Technology and updates from each of the agencies of the Research, Education and Economics Mission Area. The evening session will end by 8:00 p.m.

On Friday, September 13, 2013, the Board will reconvene at 8:00 a.m. to discuss initial recommendations resulting from the meeting and future planning for the Board; to organize the membership of the committees, and working groups of the Advisory Board; and to finalize Board business for the meeting. The Board Meeting will adjourn by 12:00 p.m. (noon).

This meeting is open to the public and any interested individuals wishing to attend. Opportunity for public comment will be offered each day of the meeting. Written comments by attendees or other interested stakeholders will be welcomed for the public record before and up to two weeks following the Board meeting (by close of business Monday, September 30, 2013). All statements will become a part of the official record of the National Agricultural Research, Extension, Education, and Economics Advisory Board and will be kept on file for public review in the Research, Education, and Economics Advisory Board Office.

Done at Washington, DC this August 13, 2013.
Catherine Woteki,
Under Secretary, Research, Education, and Economics.

[FR Doc. 2013-20618 Filed 8-22-13; 8:45 am]

BILLING CODE 3410-22-P